FEDERAL MARITIME COMMISSION

[Petition P1-08]

Petition of the National Customs Brokers and Forwarders Association of America, Inc. for Exemption From Mandatory Rate Tariff Publication; Errata

Notice is hereby given that the correct address for filing replies to Petitioner's counsel shown in the Notice of Filing, served August 5, 2008, in the above-titled petition, should have read: Edward D. Greenberg, Esq., Galland, Kharasch, Greenberg, Fellman & Swirsky, P.C., 1054 Thirty-First Street, NW., Suite 200, Washington, DC 20007-4492.

Karen V. Gregory,
Assistant Secretary.

[FR Doc. E8-18881 Filed 8-14-08; 8:45 am]

BILLING CODE 6730-01-P